DEPARTMENT OF LABOR

Office of the Secretary

Submission for OMB Review; Comment Request

October 4, 2002.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on (202) 693-4129 or e-mail: King-Darrin@dol.gov.

Comments should be sent to Office of Information and Regulatory Affairs, Attn: OMB Desk Officer for the Department of Labor, Office of Disability Employment Policy, Office of Management and Budget, Room 10235, Washington, DC 20503 (202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Office of Disability Employment Policy (ODEP).

Type of Review: New collection.

Title: Employment Assistance Referral Network (EARN) Employer and Provider Enrollment Forms, Employer Job Posting Form, and Employer and Provider Surveys.

OMB Number: 1230-ONEW.

Frequency: On occasion and Annually.

Affected Public: Businesses or other for-profit; Not-for-profit institutions; Farms; Federal Government; and State, Local, or Tribal Government.

Number of Respondents: 7,500

Form | Number of responses | Average response time (hours) | Annual burden hours
Provider enrollment form (EARN-1) | 6,000 | .33 (20 min.) | 1,980
Employer enrollment form (EARN-2) | 7,500 | .33 (20 min.) | 2,475
Employer survey | 300 | .33 (20 min.) | 100
Provider Survey | 300 | .33 (20 min.) | 100
Total | 14,100 |  | 4,655

Total Burden Cost (capital/startup): $0.

Total Burden Cost (operating/maintaining): $0.

Description: EARN is a referral service that links employers with service providers who refer appropriate candidates with disabilities. This information collection will enable ODEP to implement its responsibilities under Pub. L. 106-554 and Executive Order 13187 by providing necessary information for referrals as well as provide data on the effectiveness of the program.

Ira L. Mills,
Departmental Clearance Officer.

[FR Doc. 02-31486 Filed 12-12-02; 8:45 am]

BILLING CODE 4510-CX-M